LEGAL SERVICES CORPORATION

Sunshine Act Meeting Notice

Time and Date: The Legal Services Corporation Board of Directors' Governance & Performance Review Committee (“Committee”) will meet telephonically on August 26, 2010. The meeting will begin at 12 p.m., Eastern Time and continue until conclusion of the Committee's agenda.

Location: Legal Services Corporation, 3333 K Street, NW., Washington, DC 20007.

Status of Meeting: Open.

Public Observation: For all meetings and portions thereof open to public observation, members of the public that wish to listen to the proceedings may do so by following the telephone call-in directions given below. You are asked to keep your telephone muted to eliminate background noises. From time to time the Chairman may solicit comments from the public.

Call-In Directions for Open Session(s)

♢ Call toll-free number: 1-(866) 451-4981;

♢ When prompted, enter the following numeric pass code: 5907707348;

♢ When connected to the call, please “MUTE” your telephone immediately.

Matters To Be Considered

Open Session

1. Approval of agenda.

2. Approval of minutes of the Committee's Open Session meeting of July 30, 2010.

3. Consider and act on the Committee Self Evaluation Protocol and Tool.

4. Public comment.

5. Consider and act on other business.

6. Consider and act on adjournment of meeting.

Contact Person for Information: Katherine Ward, Executive Assistant to the Vice President for Legal Affairs & General Counsel, at (202) 295-1500. Questions may be sent by electronic mail to fr_notice_questions@lsc.gov.

Special Needs: Upon request, meeting notices will be made available in alternate formats to accommodate visual and hearing impairments. Individuals who have a disability and need an accommodation to attend the meeting may notify Katherine Ward at (202) 295-1500 or fr_notice_questions@lsc.gov.

Dated: August 13, 2010.
Patricia D. Batie,
Corporate Secretary.

[FR Doc. 2010-20488 Filed 8-13-10; 4:15 pm]

BILLING CODE 7050-01-P